ENVIRONMENTAL PROTECTION AGENCY

[EPA-HQ-OPPT-2003-0004; FRL-10021-67]

Access to Confidential Business Information by Eastern Research Group and Its Identified Subcontractors and PG Environmental

AGENCY: Environmental Protection Agency (EPA).

ACTION: Notice.

SUMMARY: EPA has authorized its contractor and subcontractor, Eastern Research Group (ERG), Lexington, MA; and PG Environmental, Golden, CO, to access information which has been submitted to EPA under all sections of the Toxic Substances Control Act (TSCA). Some of the information may be claimed or determined to be Confidential Business Information (CBI).

DATES: Access to the confidential data will occur no sooner than March 31, 2021.

FOR FURTHER INFORMATION CONTACT:

For technical information contact: Scott Sherlock, Program Management and Operations Division (7407M), Office of Pollution Prevention and Toxics, Environmental Protection Agency, 1200 Pennsylvania Ave. NW, Washington, DC 20460-0001; telephone number: (202) 564-8257; fax number: (202) 564-8251; email address: sherlock.scott@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. This action may, however, be of interest to all who manufacture, process, or distribute industrial chemicals. Since other entities may also be interested, the Agency has not attempted to describe all the specific entities that may be affected by this action.

B. How can I get copies of this document and other related information?

The docket for this action, identified by docket identification (ID) number EPA-HQ-OPPT-2003-0004 is available at http://www.regulations.gov or at the Office of Pollution Prevention and Toxics Docket (OPPT Docket), Environmental Protection Agency Docket Center (EPA/DC), West William Jefferson Clinton Bldg., Rm. 3334, 1301 Constitution Ave. NW, Washington, DC. The Public Reading Room is open from 8:30 a.m. to 4:30 p.m., Monday through Friday, excluding legal holidays. The telephone number for the Public Reading Room is (202) 566-1744, and the telephone number for the OPPT Docket is (202) 566-0280.

Due to the public health concerns related to COVID-19, the EPA Docket Center (EPA/DC) and Reading Room is closed to visitors with limited exceptions. The staff continues to provide remote customer service via email, phone, and webform. For the latest status information on EPA/DC services and docket access, visit https://www.epa.gov/dockets.

II. What action is the Agency taking?

Under EPA contract number 68HERC21D0007, contractor and subcontractors ERG, 110 Hartwell Ave, Suite 1, Lexington, MA and PG Environmental, 1113 Washington Ave, Golden, CO, will assist the Office of Pollution Prevention and Toxics (OPPT) in enforcement program implementation; enforcement case support; conducting inspections; provide laboratory support; and perform analysis.

In accordance with 40 CFR 2.306(j), EPA has determined that under EPA contract number 68HERC21D0007, ERG and PG Environmental will require access to CBI submitted to EPA under all section(s) of TSCA to perform successfully the duties specified under the contract. ERG and PG Environmental personnel will be given access to information submitted to EPA under all section(s) of TSCA. Some of the information may be claimed or determined to be CBI.

EPA is issuing this notice to inform all submitters of information under all sections of TSCA that EPA may provide ERG and PG Environmental access to these CBI materials on a need-to-know basis only. All access to TSCA CBI under this contract will take place at EPA Headquarters and ERG's site located at 14555 Avion Parkway, Suite 200, Chantilly, VA, in accordance with EPA's TSCA CBI Protection Manual.

Access to TSCA data, including CBI, will continue until March 09, 2026. If the contract is extended, this access will also continue for the duration of the extended contract without further notice.

ERG and PG Environmental personnel will be required to sign nondisclosure agreements and will be briefed on appropriate security procedures before they are permitted access to TSCA CBI.

Authority: 15 U.S.C. 2601 et seq.

Dated: March 19, 2021.
Pamela Myrick,
Director, Project Management and Operations Division, Office of Pollution Prevention and Toxics.

[FR Doc. 2021-06065 Filed 3-23-21; 8:45 am]

BILLING CODE 6560-50-P